SURFACE TRANSPORTATION BOARD

[Docket No. EP 730 (Sub-No. 1)]

Roster of Arbitrators—Annual Update

Under Section 13 of the Surface Transportation Board Reauthorization Act of 2015 (STB Reauthorization Act), codified at 49 U.S.C. 11708, Congress directed the Board to “promulgate regulations to establish a voluntary and binding arbitration process to resolve rail rate and practice complaints” that are subject to the Board's jurisdiction. In May 2016, the Board issued a Notice of Proposed Rulemaking proposing to modify its existing regulations at 49 CFR 1108 and 1115.8 to conform to the requirements of the STB Reauthorization Act. Revisions to Arbitration Procedures, EP 730 (STB served May 12, 2016). Section 11708(f) provides that, unless parties otherwise agree, an arbitrator or panel of arbitrators shall be selected from a roster maintained by the Board. Accordingly, the Board's rules establish a process for creating and maintaining a roster of arbitrators. See Revisions to Arbitration Procedures (Final Rule), EP 730, slip op. at 3-4 (STB served Oct. 11, 2016).

By decision served February 23, 2017, the Board adopted its initial roster of arbitrators and updated the roster by decision served February 14, 2018. The roster is published on the Board's website at https://www.stb.gov/stb/litigationalternatives/CurrentArbitration.html (under “Arbitration Procedures”).

Under 49 CFR 1108.6(b), the Board is to update the roster of arbitrators annually. Accordingly, the Board is now requesting the names and qualifications of new arbitrators who wish to be placed on the roster. Current arbitrators who wish to remain on the roster must notify the Board of their continued availability and confirm that the biographical information on file with the Board remains accurate and if not, provide any necessary updates. Arbitrators who do not confirm their continued availability will be removed from the roster. This decision will be served on all current arbitrators.

Any person who wishes to be added to the roster should file an application describing his or her experience with rail transportation and economic regulation, as well as professional or business experience, including agriculture, in the private sector. Each applicant should also describe his or her training in dispute resolution and/or experience in arbitration or other forms of dispute resolution, including the number of years of experience. Lastly, the applicant should provide his or her contact information and fees.

All comments—including filings from new applicants, updates to existing arbitrator information, and confirmations of continued availability—should be submitted by January 11, 2019.¹ The Board will assess each new applicant's qualifications to determine which individuals can ably serve as arbitrators based on the criteria established under 49 CFR 1108.6(b). The Board will then establish an updated roster of arbitrators by no-objection vote. The roster will include a brief biographical sketch of each arbitrator, including information such as background, area(s) of expertise, arbitration experience, and geographical location, as well as contact information and fees. The roster will be published on the Board's website.

¹ Persons who have informally indicated an interest in being included on the arbitrator roster (e.g., correspondence to Board members) should submit a comment pursuant to this decision.

It is ordered:

1. Applications from persons interested in being added to the Board's roster of arbitrators, and confirmations of continued availability (with updates, if any, to existing arbitrator information) from persons currently on the arbitration roster, are due by January 11, 2019.

2. This decision will be served on all current arbitrators and published in the Federal Register.

3. This decision is effective on the date of service.

By the Board, Scott M. Zimmerman, Acting Director, Office of Proceedings.
Jeffrey Herzig,
Clearance Clerk.

[FR Doc. 2018-26785 Filed 12-10-18; 8:45 am]

BILLING CODE 4915-01-P